DEPARTMENT OF COMMERCE

National Oceanic and Atmospheric Administration

RIN 0648-XA895

Pacific Fishery Management Council; Public Meeting

AGENCY: National Marine Fisheries Service (NMFS), National Oceanic and Atmospheric Administration (NOAA), Commerce.

ACTION: Notice of a public meeting.

SUMMARY: The Pacific Fishery Management Council's (Pacific Council) Ad Hoc Groundfish Essential Fish Habitat Review Committee (EFHRC) will hold a work session to continue the periodic review of groundfish essential fish habitat (EFH).

DATES: The work session will be held January 17-18, 2012; starting at 10 a.m. the first day, and 8 a.m. the second day.

ADDRESSES: The work session will be held at the Embassy Suites Portland Airport Hotel, 7900 NE 82nd Avenue, Portland, OR 97220.

Council address: Pacific Fishery Management Council, 7700 NE Ambassador Place, Suite 101, Portland, OR 97220-1384.

FOR FURTHER INFORMATION CONTACT: Mr. Kerry Griffin, Staff Officer, Pacific Council; (503) 820-2280.

SUPPLEMENTARY INFORMATION: The purpose of the work session is to continue developing the Phase I report on the review of information relevant to EFH for Pacific Coast groundfish stocks. The Phase I report is designed to compile new and newly-available information, and compare it with the suite of information that was used to establish the current groundfish EFH designations. The EFHRC is scheduled to report to the Council at its April 1-6, 2012 meeting in Seattle, WA.

Although non-emergency issues not contained in the meeting agenda may come before the EFHRC for discussion, those issues may not be the subject of formal EFHRC action during this meeting. EFHRC action will be restricted to those issues specifically listed in this notice and any issues arising after publication of this notice that require emergency action under section 305(c) of the Magnuson-Stevens Fishery Conservation and Management Act, provided the public has been notified of the EFHRC's intent to take final action to address the emergency.

Special Accommodations

This meeting is physically accessible to people with disabilities. Requests for sign language interpretation or other auxiliary aids should be directed to Mr. Kris Kleinschmidt at (503) 820-2280 at least 5 days prior to the meeting date.

Dated: December 21, 2011.
Tracey L. Thompson,
Acting Director, Office of Sustainable Fisheries, National Marine Fisheries Service.

[FR Doc. 2011-33069 Filed 12-23-11; 8:45 am]

BILLING CODE 3510-22-P